DEPARTMENT OF STATE

[Public Notice: 12628]

Specially Designated Global Terrorist Designations of The Terrorgram Collective, Ciro Daniel Amorim Ferreira, Noah Licul, and Hendrik-Wahl Muller

Acting under the authority of and in accordance with section 1(a)(ii)(A) of Executive Order 13224, as amended (“E.O. 13224” or “Order”), the Secretary of State has determined that the person known as The Terrorgram Collective (also known as Terrorgram) is a foreign person that has committed or has attempted to commit, poses a significant risk of committing, or has participated in training to commit acts of terrorism that threaten the security of United States nationals or the national security, foreign policy, or economy of the United States.

Additionally, acting under the authority of and in accordance with section 1(a)(ii)(B)(2) of E.O. 13224, the Secretary of State has determined that the persons known as Ciro Daniel Amorim Ferreira (also known as Ciro Daniel Ferreira), Noah Licul (also known as Noah Lycul), and Hendrik-Wahl Muller, are foreign persons who are leaders of The Terrorgram Collective, an entity whose property and interests in property are concurrently blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, the Secretary of State determines that no prior notice needs to be provided to any person subject to this determination who might have a constitutional presence in the United States, because to do so would render ineffectual the measures authorized in the Order.

This determination shall be published in the Federal Register.

Hillary Batjer Johnson,
Deputy Coordinator, Bureau of Counterterrorism, Department of State.

[FR Doc. 2025-00756 Filed 1-14-25; 8:45 am]

BILLING CODE 4710-AD-P